DEPARTMENT OF TRANSPORTATION

49 CFR Part 1

[OST Docket No. DOT-OST-1999-6189]

RIN 9991-AA54

Organization and Delegation of Powers and Duties Delegations to the Maritime Administrator

AGENCY: Office of the Secretary, DOT.

ACTION: Final rule.

SUMMARY: The Secretary of Transportation (Secretary) is delegating to the Maritime Administrator the authorities of the Secretary under title XI, subtitle C of Public Law 110-140 dated December 19, 2007; and entitled Energy Independence and Security Act of 2007.

DATES: Effective Date: October 9, 2008.

FOR FURTHER INFORMATION CONTACT: Richard Weaver, Director, Office of Management and Administrative Services, Maritime Administration, MAR-390, Room W28-302, 1200 New Jersey Avenue, SE., Washington, DC 20590, Phone: (202) 366-2811.

SUPPLEMENTARY INFORMATION: The Secretary is delegating this authority under title XI, subtitle C of Public Law 110-140 to the Maritime Administrator. The delegation authorizes the Maritime Administrator to carry out certain responsibilities of the Secretary prescribed in sections 1122, Short Sea Shipping Eligibility for Capital Construction Fund; and 1123, Short Sea Transportation Report.

The Secretary is delegating this authority to the Maritime Administrator because it falls within the purview of the Maritime Administration's statutory mission to maintain and improve the maritime industry.

This final rule adds paragraph (ii) to 49 CFR 1.66 to reflect the Secretary of Transportation's delegation of these authorities. Since this rulemaking relates to departmental organization, procedure and practice, notice and comment is unnecessary under 5 U.S.C. 553(b). Further, since the rulemaking expedites the Maritime Administration's ability to meet the statutory intent of the applicable laws and regulations covered by this delegation, the Secretary finds good cause under 5 U.S.C. 553(d)(3) for this final rule to be effective on the date of publication in the Federal Register.

List of Subjects in 49 CFR Part 1

Authority delegations (Government agencies), Organization and functions (Government agencies).

In consideration of the foregoing, Part 1 of Title 49, Code of Federal Regulations, is amended, effective upon publication, to read as follows:

PART 1—[AMENDED]

1. The authority citation for Part 1 is revised to read as follows:

Authority: 49 U.S.C. 322; 46 U.S.C. 2104(a); 28 U.S.C. 2672; 31 U.S.C. 3711(a)(2); Pub. L. 101-552, 104 Stat. 2736; Pub. L. 106-159, 113 Stat. 1748; Pub. L. 107-71, 115 Stat. 597; Pub. L. 107-295, 116 Stat. 2064; Pub. L. 108-136, 117 Stat. 1392; Pub. L. 101-115, 103 Stat. 691; Pub. L. 108-293, 118 Stat. 1028; Pub. L. 109-364, 120 Stat. 2083; Pub. L. 110-140, 121 Stat. 1492. 2. Section 1.66 is amended by adding paragraph (ii) to read as follows:

§ 1.66 Delegations to Maritime Administrator.

* * * * *

(ii) Carry out the functions and exercise the authorities vested in the Secretary of Transportation under Title 46, Chapter 556, of the United States Code, except for those found in 46 U.S.C. 55601(c) and (d).

Issued at Washington, DC, this 26th day of August, 2008.
Mary E. Peters,
Secretary of Transportation.

[FR Doc. E8-23983 Filed 10-8-08; 8:45 am]

BILLING CODE 4910-9X-P